NATIONAL LABOR RELATIONS BOARD

Sunshine Act Meetings Notice

Dates and time: Each Wednesday of every month through Fiscal Year 2018 at 2:00 p.m. Changes in date and time will be posted at www.nlrb.gov.

Place: Board Agenda Room, No. 5065, 1015 Half St. SE, Washington DC.

Status: Closed.

Matters to be considered: Pursuant to § 102.139(a) of the Board's Rules and Regulations, the Board or a panel thereof will consider “the issuance of a subpoena, the Board's participation in a civil action or proceeding or an arbitration, or the initiation, conduct, or disposition . . . of particular representation or unfair labor practice proceedings under section 8, 9, or 10 of the [National Labor Relations] Act, or any court proceedings collateral or ancillary thereto.” See also 5 U.S.C. § 552b(c)(10).

FOR FURTHER INFORMATION CONTACT: Gary Shinners, Executive Secretary, 1015 Half Street SE, Washington, DC 20570. Telephone: (202) 273-3737.

Dated: May 17, 2018.
Roxanne Rothschild,
Deputy Executive Secretary, National Labor Relations Board.

[FR Doc. 2018-10936 Filed 5-17-18; 4:15 pm]

BILLING CODE 7545-01-P